DEPARTMENT OF AGRICULTURE

Foreign Agricultural Service

Trade Adjustment Assistance for Farmers

AGENCY: Foreign Agricultural Service, USDA.

ACTION: Notice.

The Administrator, Foreign Agricultural Service (FAS), today accepted a petition filed by the National Alfalfa Alliance, Kennewick, Washington. The alliance represents non-certified (common) alfalfa seed producers in the states of California, Colorado, Idaho, Montana, Nevada, Oregon, Washington, and Wyoming. The Administrator will determine within 40 days whether or not imports of non-certified (common) alfalfa seed contributed importantly to a decline in domestic producer prices by more than 20 percent during calendar year 2002. If the determination is positive, all alfalfa seed producers in the above listed impacted States will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: February 6, 2004.
A. Ellen Terpstra,
Administrator, Foreign Agricultural Service.

[FR Doc. 04-3802 Filed 2-20-04; 8:45 am]

BILLING CODE 3410-10-P